DEPARTMENT OF THE INTERIOR

National Park Service

Notice of Inventory Completion: Northwest Museum, Whitman College, Walla Walla, WA

AGENCY: National Park Service.

ACTION: Notice.

Notice is here given in accordance with the Native American Graves Protection and Repatriation Act (NAGPRA), 25 U.S.C. 3003, of the completion of an inventory of human remains in the possession of the Northwest Museum (formerly Maxey Museum), Whitman College, Walla Walla, WA. The human remains were removed from Mason County, WA.

This notice is published as part of the National Park Service's administrative responsibilities under NAGPRA, 25 U.S.C. 3003 (d)(3). The determinations in this notice are the sole responsibility of the museum, institution or Federal agency that has control of the Native American human remains. The National Park Service is not responsible for the determinations in this notice.

A detailed assessment of the human remains was made by the Whitman College and Northwest Museum professional staff in consultation with representatives of the Skokomish Indian Tribe of the Skokomish Reservation, Washington.

Sometime between 1874 and 1907, human remains representing a minimum of four individuals were removed from the vicinity of the Skokomish Reservation, located in present-day Mason County, WA, by Reverend Myron Eells, Congregational Missionary. After Rev. Eells death, the human remains were donated to Whitman College by his wife on February 15, 1907, (WHIT-E-549, Eells#2557; WHIT-X-0011, WHIT-E-550, Eells #2558; WHIT-E-551, Eells #2559, WHIT-E-552). No known individuals were identified. No associated funerary objects are present.

While Rev. Eells did not always indicate cultural affiliation, he collected mainly from the Skokomish and S'Klallam Tribes. Rev. Eells occasionally noted tribal affiliations and/or places of origin for items in the collection. Some of Rev. Eells notes on the human remains are stated in museum records, which identify the human remains as Native American. In addition, the human remains were determined to be Native American based on skeletal morphology, as well as on museum records of the provenience.

The human remains are most likely culturally affiliated with tribes whose aboriginal lands lie in the Hood River region of the Puget Sound of northwestern Washington. Anthropological evidence, including continuities of technology and material culture, indicates continuous occupation by the Skokomish (also known as Twana) peoples over the last 2,000 years in the Puget Sound region of Washington State. The historical biography and papers of Rev. Myron Eells, and consultation evidence with tribal representatives of the Skokomish Indian Tribe of the Skokomish Reservation, Washington, further support Skokomish occupation.

Officials of the Northwest Museum, Whitman College have determined that, pursuant to 25 U.S.C. 3001 (9-10), the human remains described above represent the physical remains of four individuals of Native American ancestry. Officials of the Northwest Museum, Whitman College also have determined that, pursuant to 25 U.S.C. 3001 (2), there is a relationship of shared group identity that can be reasonably traced between the Native American human remains and the Skokomish Indian Tribe of the Skokomish Reservation, Washington.

Representatives of any other Indian tribe that believes itself to be culturally affiliated with the human remains should contact Brian Dott, Director, Northwest Museum, Maxey Hall, Whitman College, 345 Boyer Ave., Walla Walla, WA 99362, telephone (509) 527-5776, before April 13, 2009. Repatriation of the human remains to the Skokomish Indian Tribe of the Skokomish Reservation, Washington may proceed after that date if no additional claimants come forward.

The Northwest Museum, Whitman College is responsible for notifying the Skokomish Indian Tribe of the Skokomish Reservation, Washington that this notice has been published.

Dated: February 26, 2009.
Sherry Hutt,
Manager, National NAGPRA Program.

[FR Doc. E9-5326 Filed 3-11-09; 8:45 am]

BILLING CODE 4312-50-S